DEPARTMENT OF THE INTERIOR

Office of the Secretary

[DOI-2018-0014; 19XD0120AF DT23100000 DSX1B0000 54AB00.241A]

Privacy Act of 1974; System of Records

AGENCY: Office of the Special Trustee for American Indians, Interior.

ACTION: Rescindment of a system of records notice.

SUMMARY: The Department of the Interior is issuing a public notice of its intent to rescind the Office of the Special Trustee for American Indians Privacy Act system of records, “OST Parking Assignment Records, OS-08” from its existing inventory.

DATES: August 23, 2019.

ADDRESSES: You may send comments, identified by docket number [DOI-2018-0014], by any of the following methods:

• Federal eRulemaking Portal: http://www.regulations.gov. Follow the instructions for sending comments.

• Email: DOI_Privacy@ios.doi.gov. Include docket number [DOI-2018-0014] in the subject line of the message.

• Mail: Teri Barnett, Departmental Privacy Officer, U.S. Department of the Interior, 1849 C Street NW, Room 7112, Washington, DC 20240.

• Hand Delivery/Courier: Teri Barnett, Departmental Privacy Officer, U.S. Department of the Interior, 1849 C Street NW, Room 7112, Washington, DC 20240.

Instructions: All submissions received must include the agency name and docket number. All comments received will be posted without change to http://www.regulations.gov, including any personal information provided.

Docket: For access to the docket to read background documents or comments received, go to http://www.regulations.gov.

You should be aware that your entire comment including your personal identifying information, such as your address, phone number, email address, or any other personal identifying information in your comment, may be made publicly available at any time. While you may request to withhold your personal identifying information from public review, we cannot guarantee we will be able to do so.

FOR FURTHER INFORMATION CONTACT: Teri Barnett, Departmental Privacy Officer, U.S. Department of the Interior, 1849 C Street NW, Room 7112, Washington, DC 20240, email at DOI_Privacy@ios.doi.gov or by telephone at (202) 208-1605.

SUPPLEMENTARY INFORMATION: The Office of the Special Trustee for American Indians (OST) no longer uses the OS-08, OST Parking Assignment Records, system of records to collect and maintain parking permits for employees and contractors. In September 2013, OST opened parking to all OST employees, contractors, and visitors and discontinued the use of parking permits to control parking access. The records in this system were previously maintained in accordance with General Records Schedule (GRS), GRS 11/4a, which was approved by the National Archives and Records Administration. The retention period was six months, and all parking permit records maintained in the system were disposed of in accordance with GRS 11/4a.

Pursuant to the provisions of the Privacy Act of 1974, as amended, the OST is removing the OS-08, OST Parking Assignment Records, from its system of records inventory. Rescinding the OS-08, OST Parking Assignment Records, system of records notice will have no adverse impacts on individuals as the records previously maintained in the system were disposed of in accordance with an approved records retention schedule. This rescindment will also promote the overall streamlining and management of Department of the Interior Privacy Act systems of records.

SYSTEM NAME AND NUMBER:

OS-08, OST Parking Assignment Records.

HISTORY:

73 FR 77823 (December 19, 2008).

Teri Barnett,
Departmental Privacy Officer, Department of the Interior.

[FR Doc. 2019-18185 Filed 8-22-19; 8:45 am]

BILLING CODE 4334-63-P